ENVIRONMENTAL PROTECTION AGENCY

[EPA-HQ-OAR-2010-0712; FRL-9224-3]

Healthy Indoor Environment Protocols for Home Energy Upgrades

AGENCY: Environmental Protection Agency (EPA).

ACTION: Notice of availability.

SUMMARY: The Environmental Protection Agency (EPA or the Agency) is announcing the availability of, and soliciting public comments for 30 days, on voluntary Healthy Indoor Environment Protocols for Home Energy Upgrades, in conjunction with the availability of the Department of Energy (DOE) Workforce Guidelines for Home Energy. The EPA protocols are intended for voluntary adoption by weatherization assistance programs, Federally funded housing programs, private sector home performance contracting organizations, and others working on residential retrofit or remodeling efforts.

DATES: Comments must be received on or before December 9, 2010.

ADDRESSES: A draft of the EPA Protocols is available for review and public comment at: http://www.epa.gov/iaq/homes/retrofits.html.

Submit your comments, identified by Docket ID No. EPA-HQ-OAR-2010-0712, by one of the following methods:

• http://www.regulations.gov: Follow the on-line instructions for submitting comments. Note, although comments on the EPA protocols can be submitted through this Federal Web site, the EPA protocols are not a Federal regulation.

• E-mail: to a-and-r-docket@epa.gov.

• Fax: 202-566-1741.

• Mail: Air and Radiation Docket and Information Center, Environmental Protection Agency, Mailcode: 6102T, 1200 Pennsylvania Ave., NW., Washington, DC 20460.

Instructions: Direct your comments to Attn: Docket ID No. EPA-HQ-OAR-2010-0712. The Agency's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available electronically at http://www.regulations.gov. As provided in EPA's regulations at 40 CFR part 2, and in accordance with normal EPA docket procedures, if copies of any docket materials are requested, a reasonable fee may be charged for photocopying.

FOR FURTHER INFORMATION CONTACT: Eric Werling, Indoor Environments Division, Mail Code 6609J, U.S. Environmental Protection Agency, 1200 Pennsylvania Avenue, Washington, DC 20460; telephone number: 202-343-9495; fax number: 202-343-2394; e-mail address: werling.eric@epa.gov.

SUPPLEMENTARY INFORMATION:

I. General Information

A. What should I consider as I prepare my comments for EPA?

1. Submitting CBI. Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the review document by docket number and other identifying information (subject heading, Federal Register date and page number).

• Follow directions—The agency may ask you to respond to specific questions or organize comments by referencing a section or page number of the review document.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

Title IV of the Superfund Amendments and Reauthorization Act of 1986 (SARA) gave EPA broad authorization to coordinate research in indoor air quality, develop and disseminate information of the subject, and coordinate efforts at the Federal, State, and local levels. The main objectives of the EPA Indoor Environments program include the protection of public health by promoting healthy environments; development and implementation of control strategies which would prevent, diagnose, abate, and mitigate indoor pollution, including the development and dissemination of guidance on those aspects of building design and construction, operation and maintenance that affect the indoor environment; and the development and dissemination of information to educate key audiences about indoor air pollution and its associated health risks, mitigation, and control strategies. Using the best science available, EPA develops and disseminates information, guidance and solution-oriented technologies and serves as a catalyst for action by guiding research, using innovative and creative risk communication tools and by building public-private partnerships.

As part of these responsibilities, EPA is developing voluntary Healthy Indoor Environment Protocols for Home Energy Upgrades. These protocols are intended for voluntary adoption by weatherization assistance programs, Federally funded housing programs, private sector home performance contracting organizations, and others working on residential energy efficiency retrofits, remodeling or other home improvement efforts. A draft is now available for review and comment. All of this information—including the draft document and additional comment-submitting instructions—can be found on the Agency's Indoor Air Quality Web site at: http://www.epa.gov/iaq/homes/retrofits.html.

Concurrently, in May 2009, the Vice President's Middle Class Task Force asked the White House Council on Environmental Quality (CEQ) to develop recommendations for Federal action to lay the architecture for a self-sustaining home energy efficiency retrofit industry. In response, CEQ facilitated a broad interagency process that resulted in the development of six recommendations described in detail in a report titled Recovery Through Retrofit.¹ These recommendations were carefully crafted to stimulate the growth of a vibrant, private sector-led market for residential energy efficiency retrofits. They include establishment of a uniform set of national guidelines to promote high-quality, safe and healthy energy efficiency retrofit work. DOE developed Workforce Guidelines for Home Energy Upgrades in response to this recommendation, in concert with EPA's development of Healthy Indoor Environment Protocols for Home Energy Upgrades.

¹ http://www.whitehouse.gov/sites/default/files/Recovery_Through_Retrofit_Final_Report.pdf.

Together, the DOE and EPA documents will: Provide a robust and practical set of resources for retrofit contractors, trainers, and program administrators; help improve the quality of the work performed in this expanding industry; promote occupant health and safety; and drive consumer demand for energy efficiency retrofit services. EPA encourages reviewers with broader interest in home energy retrofits to also review the DOE Workforce Guidelines, available for public comment until January 7, 2011 [http://www.weatherization.energy.gov/retrofit_guidelines].

A. Why is EPA developing voluntary Healthy Indoor Environment Protocols for Home Energy Upgrades?

Millions of American homes will be retrofitted in the coming years to improve energy efficiency or make them more “green.” Integrated healthy home and energy efficiency retrofit activities can lower utility costs for Americans and improve indoor air quality in homes at the same time. However, there is the potential for weatherization and other energy efficiency retrofit activities to negatively impact indoor air quality and public health—if the appropriate home assessment is not made before work begins and issues that may impact indoor air quality are not appropriately addressed. These Protocols provide guidance for conducting such home assessments and also provide the specific responses necessary to maintain or improve indoor air quality in conjunction with energy efficiency retrofits or other remodeling activities.

The Protocols are intended to enhance the ability of other Federal agencies, industry standard organizations, State and local programs, and the home energy retrofit industry (i.e., home weatherization, energy efficiency retrofit, and housing rehabilitation professionals) to better integrate health protections into energy focused programs. The Protocols apply to single family and multi-family low-rise residential dwellings. These Protocols provide recommended minimum specifications and additional best practices for protection of occupant health and, together with better resources for contractors, will facilitate increased home energy efficiency, improve the quality of the work performed, and reduce failures and call-backs for contractors.

B. Why are better health protections needed for home energy retrofits?

Low-income weatherization and private sector home performance contracting programs reduce energy bills, improve comfort, and often improve health and safety in the homes of many American families. These activities should never adversely affect a home's indoor environment, occupant health, or worker health and safety. The most urgent public health issues related to home energy retrofits, such as combustion safety, already have rigorous standards in place that are enforced through program requirements and processes. However, there are other public health issues that can be affected by home energy retrofits and remodeling work such as occupant exposure to moisture/mold, radon, and lead. These draft Healthy Indoor Environment Protocols provide guidance on how best to address these issues and the steps necessary to maintain or improve indoor air quality while making energy efficiency home improvements. Adoption of the EPA Protocols and other protective guidelines such as the DOE Workforce Guidelines will help minimize the potential unintended health impacts of retrofit and remodeling activities.

Fortunately, the expansion of the DOE's weatherization assistance program (WAP) through the American Recovery and Reinvestment Act (ARRA) of 2009, and other home energy retrofit initiatives provide unique opportunities to simultaneously improve the energy efficiency and the healthfulness of American homes. Integrated healthy home and retrofit activities can lower utility costs for Americans, while improving the indoor air quality in millions of homes. EPA is working with DOE and other programs to identify opportunities to reduce or eliminate barriers to incorporating more health protective best practices into energy efficiency retrofit programs. These protocols, when finalized will serve as a core set of practices that can be integrated into evolving program standards, training curricula and other elements of energy efficiency retrofit programs.

C. What information is included in the DRAFT protocols?

This DRAFT document includes recommended protocols for assessment of indoor environmental quality issues, recommended minimum actions, and recommended expanded actions to promote improved occupant health through home energy retrofits. Each of these is described below.

This document DOES NOT:

• Set new EPA regulatory standards;

• Provide guidance for diagnosing occupant health problems or building-related illness;

• Replace the need for training or training documents; or

• Provide detailed guidance on how to achieve the intent of each recommendation in all situations.

The document is organized to highlight priority health concerns that may relate to home energy efficiency retrofits. Priority issues are identified based on whether they are known to pose significant health risks to occupants and whether they can be affected by energy efficiency retrofit activities. For each “Priority Issue” identified in Column 1, the matrix identifies the following:

1. “Assessment Protocols” in Column 2 provide EPA-recommended assessment protocols for evaluating both existing conditions of concern and the potential for additional health concerns that may arise as a result of retrofit activities. EPA anticipates recommending adoption of the assessment protocols into weatherization and home energy retrofit assessment and audit standards and materials.

2. “Minimum Actions” in Column 3 include actions that weatherization and home energy retrofit contractors should take to ensure that the work they perform in a home does not introduce new health concerns or make existing conditions worse. These often reference existing standards. EPA anticipates recommending adoption of the minimum actions into weatherization and home energy retrofit standards and materials, and removal or modification of program rules that prohibit these recommended actions.

3. “Expanded Actions” in Column 4 include recommended indoor environment improvements that can be made during many home energy retrofit projects. The expanded actions are usually low-cost, simple improvements that can be performed by home energy retrofit workers with proper training and sufficient resources. EPA anticipates recommending incorporation of the expanded actions into weatherization assistance program and other home energy retrofit program guidance and training materials, and collaboration to help overcome barriers to these recommended healthy homes actions.

Additional resources (standards, guidelines, etc.) have been included for further information on each issue, including recommended assessment and performance standards, and supplemental guidance information.

In addition, EPA anticipates the need for supplemental assessment tools such as worksheets and checklists, to help assessors and contractors manage critical job information. Therefore, EPA plans to develop sample assessment tools to accompany these protocols, such as the following sample tool concepts:

• Sample Mold and Moisture Assessment Form.

• Sample Radon Testing and Assessment Form.

• Sample Home Ventilation Worksheet.

D. How is EPA recommending the protocols be used?

These protocols were developed to assist weatherization assistance programs and other home energy retrofit and remodeling programs to fill in gaps in their program standards related to indoor environment health protections, and provide additional guidance for those able to go beyond recommended minimum health protections. EPA recommends that these protocols (and supplemental tools) be voluntarily adopted in whole or in part, for the following purposes:

• To help develop or enhance standardized training program requirements.

• To help refine and update program performance standards, materials, and resources to better protect occupant health.

• To inform revisions to program funding rules (i.e., change allowable expenses for health and safety as appropriate).

Specifically, EPA anticipates recommending the following for weatherization assistance and home energy retrofit programs:

1. Adoption of the assessment protocols into weatherization assistance and other home energy retrofit program assessment or audit standards,

2. Adoption of the minimum actions into weatherization assistance and other home energy retrofit program standards, and removal or modification of program rules that prohibit these recommended minimum actions,

3. Incorporation of the expanded actions into weatherization assistance and other home energy retrofit program guidance and training materials, and collaboration to help overcome barriers to these recommended healthy homes actions.

Dated: November 4, 2010.
Michael P. Flynn,
Director, Office of Radiation and Indoor Air.

[FR Doc. 2010-28375 Filed 11-8-10; 8:45 am]

BILLING CODE 6560-50-P